DEPARTMENT OF TRANSPORTATION

National Highway Traffic Safety Administration

Denial of Motor Vehicle Defect Petition, DP02-006

AGENCY: National Highway Traffic Safety Administration (NHTSA), Department of Transportation.

ACTION: Denial of petition for a defect investigation.

SUMMARY: This notice sets forth the reasons for the denial of a petition submitted to NHTSA under 49 U.S.C. 30162, requesting that the agency commence a proceeding to determine the existence of a defect related to motor vehicle safety in model year (MY) 2000 Kia Sportage vehicles with respect to their propensity to roll over. After reviewing the petition and other information, NHTSA has concluded that further expenditure of the agency's investigative resources on the issue raised by the petition does not appear to be warranted. The agency accordingly has denied the petition. The petition is hereinafter identified as DP02-006.

FOR FURTHER INFORMATION CONTACT: Jonathan White, Office of Defects Investigation (ODI), NHTSA, 400 Seventh Street, SW., Washington, DC 20590. Telephone: (202) 366-5226.

SUPPLEMENTARY INFORMATION: Ms. Anne Marie Terrone of Franklin Square, New York, submitted a petition by letter dated April 17, 2002, requesting that NHTSA commence an investigation to determine the existence of a defect related to motor vehicle safety in MY 2000 Kia Sportage vehicles. The petitioner alleges that as she was making a left-hand turn, her MY 2000 Kia Sportage vehicle rolled over twice, causing her serious injuries.

In response to ODI's inquiry, Kia Motors America, Inc (KMA) provided ODI with information concerning the aforementioned rollover incident. KMA's information included a copy of the lawsuit filed by the petitioner and a copy of the police accident report (PAR). The lawsuit states that the petitioner's vehicle rolled over twice while changing lanes on Route 135 in Nassau County, New York. The PAR states that the incident occurred at 1:45 p.m., on March 16, 2001, on Route 135, an expressway with a posted speed limit of 55 mph. A non-scaled rough diagram in the PAR appears to show that the vehicle was initially in the right hand lane of the three-lane roadway, overturned between the right and middle lanes and came to a stop at an angle between the left and middle lanes. The PAR indicates that no other vehicle was involved and that “unsafe speed” was an apparent contributing factor.

Two variables that have significant influence on a vehicle's resistance to rollover are its track width and center-of-gravity (CG). Wider track width and/or lower CG increases the vehicle's resistance to rollover. According to KMA, the Kia Sportage vehicle's track width and CG are the same from MY 1995 (first model year) to MY 2002. Accordingly, ODI has reviewed NHTSA's consumer complaint database, the Fatality Analysis Reporting System database (FARS), and available state data for the MY 1995-2000 Kia Sportage vehicles (subject vehicles) to search for reported rollover incidents. ODI did not include MY 2001-2002 since state crash data and FARS data are either not available or incomplete at this time. For comparison purposes, ODI also reviewed similar data for the MY 1995-2000 Chevrolet/Geo Tracker, MY 1997-2000 Honda CR-V, MY 1999-2000 Suzuki Vitara/Grand Vitara, MY 1998-2000 Isuzu Amigo, and MY 1996-2000 Toyota RAV4 (hereinafter “peer vehicles”). These vehicles were selected as peers of the subject vehicles because of their general characteristics rather than specific dimensions. ODI also compared the rollover risk of the subject vehicles with those of certain model year 2001 Sport Utility Vehicles (SUV) evaluated under NHTSA's New Car Assessment Program (NCAP).

Table 1, below, compares the number of complaints ODI has received for the subject vehicles and the peer vehicles of rollover incidents that appeared to have occurred on the road surface and did not involve another vehicle (Single-Vehicle On-Road (“SVOR”) rollovers). This data does not suggest that the Kia Sportage has a higher propensity of SVOR rollover than the peer vehicles.

Table 1.—ODI Compliant Comparison on SVOR Rollover Between the Subject Vehicles and the Peer Vehicles
Make and model | Model year: 1995 | Model year: 1996 | Model year: 1997 | Model year: 1998 | Model year: 1999 | Model year: 2000 | Total
Kia Sportage | 0 | 0 | 0 | 1 | 0 | 1 | 2
Isuzu Amigo | n/a | n/a | n/a | 0 | 0 | 0 | 0
Honda CR-V | n/a | n/a | 0 | 0 | 0 | 1 | 1
Toyota RAV4 | n/a | 0 | 0 | 1 | 1 | 0 | 2
Chevrolet/GeoTracker | 3 | 2 | 1 | 1 | 0 | 0 | 7
Suzuki Vitara* | n/a | n/a | n/a | n/a | 0 | 0 | 0
“n/a” denotes here and hereinafter that the model vehicle was not produced in that model year.
* Including the Grand Vitara model here and hereinafter.

Table 2, below, shows the number of all SVOR fatal crashes in FARS between calendar years 1994 through 2000 involving the subject vehicles and the peer vehicles. Also shown are the number of these crashes that involved rollovers, and the percentage of rollovers in these crashes. These SVOR crashes do not include first harmful event collisions with pedestrians, pedal-cyclists, trains, or animals. FARS appears to indicate that the subject vehicles have a lower propensity of SVOR rollover per fatal crash than the peer vehicles.

Table 2.—SVOR Rollover Rate Per Fatal Crash for the Subject Vehicles and the Peer Vehicles Based on 1994-2000 ARS Data
Vehicle model | Model year: 1995: Crash | Model year: 1995: Rollover | Model year: 1996: Crash | Model year: 1996: Rollover | Model year: 1997: Crash | Model year: 1997: Rollover | Model year: 1998: Crash | Model year: 1998: Rollover | Model year: 1999: Crash | Model year: 1999: Rollover | Model year: 2000: Crash | Model year: 2000: Rollover | Total: Crash | Total: Rollover | Percent of rollovers in SVOR crashes
Sportage | 1 | 1 | 1 | 1 | 0 | 0 | 1 | 0 | 4 | 3 | 1 | 1 | 8 | 6 | 75
Amigo | n/a | n/a | n/a | n/a | n/a | n/a | 0 | 0 | 1 | 1 | 0 | 0 | 1 | 1 | 100
CR-V | n/a | n/a | n/a | n/a | 1 | 1 | 1 | 1 | 1 | 1 | 0 | 0 | 3 | 3 | 100
RAV4 | n/a | n/a | 1 | 1 | 1 | 1 | 4 | 3 | 1 | 1 | 1 | 1 | 8 | 7 | 87
Tracker | 4 | 4 | 2 | 2 | 2 | 2 | 1 | 1 | 1 | 1 | 0 | 0 | 10 | 10 | 100
Vitara | n/a | n/a | n/a | n/a | n/a | n/a | n/a | n/a | 0 | 0 | 0 | 0 | 0 | 0 | unknown

Table 3, below, shows the number of SVOR crashes and the percentage of SVOR crashes involving rollovers using state crash data from Florida, Maryland, Missouri, North Carolina (calendar year 2000 data not available), Pennsylvania, and Utah for crashes that occurred in calendar years 1994 through 2000. These states were chosen because their crash records included the vehicle identification number and identified all rollover crashes. The state crash data appears to indicate that the subject vehicles have a comparable propensity of SVOR rollover as the peer vehicles.

Table 3.—Percentage of the SVOR Rollovers in SVOR Crashes From Six States
Make and model | Model year | SVOR crashes | SVOR rollover crashes | Percentage of the rollovers in SVOR crashes
Kia Sportage | 95-00 | 260 | 94 | 36
Isuzu Amigo | 98-00 | 264 | 116 | 44
Honda CR-V | 97-00 | 195 | 42 | 21
Toyota RAV4 | 96-00 | 237 | 76 | 32
Chevrolet/Geo Tracker | 95-00 | 2560 | 932 | 36
Suzuki Vitara | 99-00 | 81 | 24 | 30

ODI also compared the rollover resistance of the subject vehicles to that of other MY 2001 SUVs by utilizing NCAP's evaluation of the static stability factor (SSF) for each of the other vehicles listed in Table 4. SSF is one-half the track width of a vehicle divided by the height of its center of gravity; a higher SSF value corresponds to greater rollover resistance in single-vehicle crashes. Table 4, below, shows that the SSF of the subject vehicles ranks favorably among the MY 2001 SUVs evaluated under NCAP.

Table 4.—NCAP Static Stability Factor for Model Year 2001 Sport Utility Vehicles Compared to SSF for MY 1995-2002 Kia Sportage Calculated by KMA
NCAP Static Stability Factor for Model Year 2001 Sport Utility Vehicles
Make and model | 4x2 | Make and model | 4x4
Pontiac Aztek | 1.21 | Pontiac Aztek | 1.26
Dodge Durango | 1.20 | Toyota RAV4 | 1.22
Lexus RX300 | 1.20 | Lexus RX300 | 1.21
Toyota RAV4 | 1.19 | Mazda Tribute | 1.21
Honda CR-V | 1.17 | Honda CR-V | 1.19
Mazda Tribute | 1.17 | Isuzu Rodeo | 1.18
Chevrolet Tracker | 1.16 | Kia Sportage | 1.18
Suzuki Grand Vitara | 1.16 | Honda Passport | 1.18
Honda Passport | 1.15 | Dodge Durango | 1.16
Isuzu Rodeo | 1.15 | Infiniti QX4 | 1.16
Kia Sportage | 1.14 | Nissan Pathfinder | 1.16
Chevrolet Suburban | 1.13 | Chevrolet Tracker | 1.15
GMC Yukon XL | 1.13 | Suzuki Vitara | 1.15
Chevrolet Tahoe | 1.12 | Chevrolet Suburban | 1.14
GMC Yukon | 1.12 | Chevrolet Tahoe | 1.14
Ford Expedition | 1.11 | GMC Yukon/Yukon XL | 1.14
Lincoln Navigator | 1.11 | Jeep Wrangler | 1.13
Jeep Grand Cherokee | 1.09 | Nissan Xterra | 1.12
Nissan Xterra | 1.09 | Lincoln Navigator | 1.11
Toyota 4Runner | 1.08 | Ford Expedition | 1.11
Mitsubishi Montero Sport | 1.07 | Jeep Grand Cherokee | 1.11
Nissan Pathfinder | 1.07 | Mitsubishi Montero Sport | 1.11
Mercury Mountaineer | 1.06 | Chevrolet Blazer | 1.09
Ford Explorer | 1.06 | GMC Jimmy | 1.09
Chevrolet Blazer | 1.02 | Oldsmobile Bravada | 1.09
GMC Jimmy | 1.02 | Jeep Cherokee | 1.08
|  | Ford Explorer | 1.06
|  | Mercury Mountaineer | 1.06
|  | Toyota 4Runner | 1.06

In view of the foregoing, it is unlikely that NHTSA would issue an order for the notification and remedy of the alleged defect as defined by the petitioner at the conclusion of the investigation requested in the petition. Therefore, in view of the need to allocate and prioritize NHTSA's limited resources to best accomplish the agency's safety mission, the petition is denied.

Authority: 49 U.S.C. 30162(d); delegations of authority at CFR 1.50 and 501.8.

Issued on: September 23, 2002.
Kenneth N. Weinstein,
Associate Administrator for Enforcement.

[FR Doc. 02-24726 Filed 9-27-02; 8:45 am]

BILLING CODE 4910-59-P